DEPARTMENT OF LABOR

Employment and Training Administration

[TA-W-63,943]

Dana Holding Corporation, Sealing Products Group, Including On-Site Temporary Agency Workers from Pomeroy, Paris, TN; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on November 3, 2008, applicable to workers of Dana Holding Corporation, Sealing Products Group, Paris, Tennessee. The notice was published in the Federal Register on November 25, 2008 (73 FR 71696).

At the request of the State agency, the Department reviewed the certification for workers of the subject firm. The workers produce composite covers and rubber gaskets for the automotive industry.

The intent of the Department's certification is to include all workers of the subject firm adversely affected by the shift in production of rubber gaskets to Mexico.

New information shows that temporary agency workers from Pomeroy were employed on-site at the Paris, Tennessee, location of Dana Holding Corporation, Sealing Products Group. The Department has determined that these workers were sufficiently under the control of the subject firm.

Based on these findings, the Department is amending this certification to include temporary agency employees of Pomeroy working on-site at the subject firm.

The amended notice applicable to TA-W-63,943 is hereby issued as follows:

“All workers of Dana Holding Corporation, Sealing Products Group, Paris, Tennessee, including on-site temporary agency workers from Pomeroy, who became totally or partially separated from employment on or after August 27, 2007 through November 3, 2010, are eligible to apply for adjustment assistance under Section 223 of the Trade Act of 1974, and are also eligible to apply for alternative trade adjustment assistance under Section 246 of the Trade Act of 1974.”

Signed in Washington, DC, this 5th day of May 2009.
Elliott S. Kushner,
Certifying Officer, Division of Trade Adjustment Assistance.

[FR Doc. E9-11433 Filed 5-15-09; 8:45 am]

BILLING CODE 4510-FN-P